DEPARTMENT OF THE INTERIOR

Bureau of Land Management

[LLCO956000 L14400000.BJ0000 212]

Notice of Filing of Plats of Survey; Colorado

AGENCY: Bureau of Land Management, Interior.

ACTION: Notice of official filing.

SUMMARY: The Bureau of Land Management (BLM) Colorado State Office is publishing this notice to inform the public of the official filing of the amended protraction diagram listed below. The diagram, which was executed at the request of the U.S. Forest Service and the BLM, is necessary for the management of these lands. The plat is available for viewing in the BLM Colorado State Office.

DATES: The plat described in this notice was filed on August 21, 2017.

ADDRESSES: You may submit written protests to the BLM Colorado State Office, Cadastral Survey, 2850 Youngfield Street, Lakewood, CO 80215-7093.

FOR FURTHER INFORMATION CONTACT: Randy Bloom, Chief Cadastral Surveyor for Colorado, (303) 239-3856; rbloom@blm.gov. Persons who use a telecommunications device for the deaf may call the Federal Relay Service at 1-800-877-8339 to contact the above individual during normal business hours. The Service is available 24 hours a day, seven days a week, to leave a message or question with the above individual. You will receive a reply during normal business hours.

SUPPLEMENTARY INFORMATION: The plat of Amended Protraction Diagram No. 24D in unsurveyed Township 41 North, Range 7 West, New Mexico Principal Meridian, Colorado, was accepted on August 21, 2017, and filed on August 21, 2017.

A person or party who wishes to protest the above plat must file a written notice of protest within 30 calendar days from the date of this publication at the address listed in the ADDRESSES section of this notice. A statement of reasons for the protest may be filed with the notice of protest and must be filed within 30 calendar days after the protest is filed.

Before including your address, phone number, email address, or other personal identifying information in your protest, please be aware that your entire protest, including your personal identifying information, may be made publicly available at any time. While you can ask us in your comment to withhold your personal identifying information from public review, we cannot guarantee that we will be able to do so.

Authority: 43 U.S.C. Chap. 3.

Randy A. Bloom,
Chief Cadastral Surveyor for Colorado.

[FR Doc. 2020-24606 Filed 11-4-20; 8:45 am]

BILLING CODE 4310-JB-P